NATIONAL AERONAUTICS AND SPACE ADMINISTRATION

[Notice 13-107]

Government-Owned Inventions, Available for Licensing

AGENCY: National Aeronautics and Space Administration.

ACTION: Notice of Availability of Inventions for Licensing.

SUMMARY: Patent applications on the inventions listed below assigned to the National Aeronautics and Space Administration, have been filed in the United States Patent and Trademark Office, and are available for licensing.

DATES: September 19, 2013.

FOR FURTHER INFORMATION CONTACT: Robin W. Edwards, Patent Counsel, Langley Research Center, Mail Stop 30, Hampton, VA 23681-2199; telephone (757) 864-3230; fax (757) 864-9190.

NASA Case No.: LAR-18065-1: Variable Acceleration Force Calibration System;

NASA Case No.: LAR-18127-1: A Modified Surface Having Low Adhesion Properties to Mitigate Insect Residue Adhesion;

NASA Case No.: LAR-18160-1: Tension Stiffened and Tendon Actuated Manipulator and a Hinge for Use Therein.

Sumara M. Thompson-King,
Deputy General Counsel.

[FR Doc. 2013-22720 Filed 9-18-13; 8:45 am]

BILLING CODE 7510-13-P